DEPARTMENT OF THE TREASURY

Internal Revenue Service

Open Meeting of Citizen Advocacy Panel, Midwest District

AGENCY: Internal Revenue Service (IRS), Treasury.

ACTION: Notice.

SUMMARY: A meeting of the Midwest Citizen Advocacy Panel will be held in Milwaukee, Wisconsin.

DATES: The meeting will be held Wednesday, September 26, 2001.

FOR FURTHER INFORMATION CONTACT: Sandra McQuin at 1-888-912-1227 (in Wisconsin, Iowa, Nebraska and Illinois), or 414-297-1604.

SUPPLEMENTARY INFORMATION: Notice is hereby given pursuant to Section 10(a)(2) of the Federal Advisory Committee Act, 5 U.S.C. App. (1988) that an open meeting of the Citizen Advocacy Panel (CAP) will be held Wednesday, September 26, 2001, from 8:00 a.m. to Noon at the Hyatt Regency Hotel, 333 West Kilbourn Avenue, Milwaukee, WI. The Citizen Advocacy Panel is soliciting public comment, ideas, and suggestions on improving customer service at the Internal Revenue Service. Public comments will be welcome during the meeting, or you can submit written comments to the panel by faxing to (414) 297-1623, or by mail to Citizen Advocacy Panel, Mail Stop 1006 MIL, 310 West Wisconsin Avenue, Milwaukee, WI 53203-2221.

The Agenda will include the following: Introduction of new panel members, miscellaneous reports.

Note: Last minute changes to the agenda are possible and could prevent effective advance notice.

Dated: September 5, 2001.
Cindy Vanderpool,
Acting Director, CAP, Communication and Liaison.

[FR Doc. 01-22797 Filed 9-11-01; 8:45 am]

BILLING CODE 4830-01-P